SMALL BUSINESS ADMINISTRATION

National Women's Business Council; Notice of Public Meeting

In accordance with the Women's Business Ownership Act, Public Law 106-554 as amended, the National Women's Business Council (NWBC) would like to announce a forthcoming Council meeting. The meeting will discuss the National Women's Business Council's agenda and action items for fiscal year 2006, included and not limited to procurement, access to capital, access to training and technical assistance, and access to markets.

DATES: Thursday, January 26, 2006.

ADDRESSES: U.S. Small Business Administration, 409 Third Street, SW., Eisenhower Conference Room, Washington, DC 20416.

Time: 9 a.m.-4 p.m.

Status: Open to the public. Attendance by RSVP only.

Contact: Katherine Stanley, National Women's Business Council, 202-205-3850.

Anyone wishing to attend and to make an oral presentation at the meeting must contact Margaret Barton, no later than Monday, January 23, 2006 at (202) 205-3850.

Matthew K. Becker,
Committee Management Officer.

[FR Doc. E6-243 Filed 1-11-06; 8:45 am]

BILLING CODE 8025-01-P